DEPARTMENT OF THE INTERIOR

Fish and Wildlife Service

[FWS-R8-ES-2014-N043; FF08E00000-FXES11120800000-145]

Proposed Low-Effect Habitat Conservation Plan for the California Red-Legged Frog, Sonoma County, California

AGENCY: Fish and Wildlife Service, Interior.

ACTION: Notice of availability; receipt of permit application, proposed habitat conservation plan; request for comment.

SUMMARY: We, the U.S. Fish and Wildlife Service (Service), have received an application from Bradley Jacobs (applicant) for a 5-year incidental take permit under the Endangered Species Act of 1973, as amended (Act). The application addresses the potential for “take” of one listed animal, the California red-legged frog. The applicant would implement a conservation program to minimize and mitigate the project activities, as described in the applicant's low-effect habitat conservation plan (HCP). We request comments on the applicant's application and HCP, and our preliminary determination that the HCP qualifies as a “low-effect” habitat conservation plan, eligible for a categorical exclusion under the National Environmental Policy Act of 1969, as amended (NEPA). We discuss our basis for this determination in our environmental action statement (EAS), also available for public review.

DATES: To ensure consideration, please send your written comments by May 5, 2014. We will make the final permit decision no sooner than May 5, 2014.

ADDRESSES: Submitting Comments: Please address written comments to Stephanie Jentsch, Coast Bay Forest Foothills Division, U.S. Fish and Wildlife Service, Sacramento Fish and Wildlife Office, 2800 Cottage Way, W-2605, Sacramento, CA 95825. Alternatively, you may send comments by facsimile to (916) 414-6713.

Reviewing Documents: You may obtain copies of the permit application, HCP, and EAS from the individuals in FOR FURTHER INFORMATION CONTACT, or from the Sacramento Fish and Wildlife Office Web site at http://www.fws.gov/sacramento. Copies of these documents are also available for public inspection, by appointment, during regular business hours, at the Sacramento Fish and Wildlife Office.

FOR FURTHER INFORMATION CONTACT: Mike Thomas, Chief, Conservation Planning Division, or Eric Tattersall, Deputy Assistant Field Supervisor, at the address shown above or at (916) 414-6600 (telephone). If you use a telecommunications device for the deaf, please call the Federal Information Relay Service at (800) 877-8339.

SUPPLEMENTARY INFORMATION:

Introduction

We have received an application from Bradley Jacobs (applicant) for a 5-year incidental take permit under the Endangered Species Act of 1973, as amended (Act). The application addresses the potential for “take” of one listed animal, the California red-legged frog. The applicant would implement a conservation program to minimize and mitigate the project activities, as described in the applicant's low-effect habitat conservation plan (HCP). We request comments on the applicant's application and HCP, and our preliminary determination that the HCP qualifies as a “low-effect” habitat conservation plan, eligible for a categorical exclusion under the National Environmental Policy Act of 1969, as amended (NEPA). We discuss our basis for this determination in our environmental action statement (EAS), also available for public review.

Background Information

Section 9 of the Act (16 U.S.C. 1531-1544 et seq.) and Federal regulations (50 CFR 17) prohibit the taking of fish and wildlife species listed as endangered or threatened under section 4 of the Act. Take of federally listed fish or wildlife is defined under the Act as to harass, harm, pursue, hunt, shoot, wound, kill, trap, capture, or collect listed species, or attempt to engage in such conduct. The term “harass” is defined in the regulations as to carry out actions that create the likelihood of injury to listed species to such an extent as to significantly disrupt normal behavioral patterns, which include, but are not limited to, breeding, feeding, or sheltering (50 CFR 17.3). The term “harm” is defined in the regulations as significant habitat modification or degradation that results in death or injury of listed species by significantly impairing essential behavioral patterns, including breeding, feeding, or sheltering (50 CFR 17.3). However, under specified circumstances, the Service may issue permits that allow the take of federally listed species, provided that the take that occurs is incidental to, but not the purpose of, an otherwise lawful activity.

Regulations governing permits for endangered and threatened species are at 50 CFR 17.22 and 17.32, respectively. Section 10(a)(1)(B) of the Act contains provisions for issuing such incidental take permits to non-Federal entities for the take of endangered and threatened species, provided the following criteria are met:

(1) The taking will be incidental;

(2) The applicants will, to the maximum extent practicable, minimize and mitigate the impact of such taking;

(3) The applicants will develop a proposed HCP and ensure that adequate funding for the HCP will be provided;

(4) The taking will not appreciably reduce the likelihood of the survival and recovery of the species in the wild; and

(5) The applicants will carry out any other measures that the Service may require as being necessary or appropriate for the purposes of the HCP.

Proposed Project

The draft HCP addresses potential effects to the California red-legged frog that may result from proposed activities, and the applicant seeks incidental take authorization for covered activities within 8.5 acres located at 24129 Turkey Road, Sonoma County, California. The federally threatened California red-legged frog (Rana draytonii) will be the only covered species in the applicant's proposed HCP.

The applicant would seek incidental take authorization for this one covered species and would receive assurances under our “No Surprises” regulations (50 CFR 17.22(b)(5) and 17.32(b)(5)).

Proposed Covered Activities

The following actions are proposed as the “Covered Activities” under the HCP: Approximately 4.75 acres of upland grassland habitat for California red-legged frog will be developed with a residence and vineyard, and 0.15 acre of grassland will be temporarily disturbed to install utilities. This will include the construction of an approximately 3,500-square-foot house, construction of a 1,800-square-foot agricultural building, construction of a gravel road and turn-around, the installation of a sewage disposal system, and the planting of a 4.5-acre vineyard within the 8.5-acre undeveloped site. The applicant seeks a 5-year permit to cover the activities associated with this proposed development within the 8.5-acre site (the permit area).

Proposed Mitigation Measures

The applicant proposes to avoid, minimize, and mitigate the effects to the covered species associated with the Covered Activities by fully implementing the HCP. The following mitigation and minimization measures will be implemented:

• Purchase of 0.75-acres of California red-legged frog credits at a Service-approved conservation bank;

• A pre-construction survey by a qualified biologist prior to start of work;

• An employee education program;

• Presence of an on-site biological monitor during initial grading and vegetation clearing;

• Survey of equipment and trenches by a biological monitor prior to start of work each day;

• Implementation of an erosion and sediment control plan that does not use materials that could entrap or injure California red-legged frogs;

• Implementation of Best Management Practices to prevent any construction debris or sediment from impacting adjacent habitat;

• Limiting access routes and staging areas to the minimum necessary;

• Storing food-related trash in sealed containers and removing trash every 3 days;

• Prohibiting pets in the project site during construction;

• Enforcing a speed limit of 15 miles per hour on dirt roads;

• Maintaining all equipment to prevent leaks;

• Storing hazardous materials in sealed containers in a designated location at least 200 feet from aquatic habitat;

• Conducting grading between April 15 and October 15;

• Re-vegetating temporarily disturbed areas with appropriate native seed mixtures.

Proposed Action and Alternatives

Our proposed action (see below) is approving the applicant's HCP and issuance of an incidental take permit for the applicant's Covered Activities. As required by the Act, the applicant's HCP considers alternatives to the take under the proposed action. The HCP considers the environmental consequences of two alternatives to the proposed action: (1) The No Action Alternative; and (2) the Reduced Development Alternative.

No-Action Alternative

Under the No-Action Alternative, we would not issue an incidental take permit; the applicant would not build the proposed residence and vineyard; the project area would remain undeveloped; and the applicant would not implement proposed mitigation measures. While this No-Action Alternative would avoid take of covered-species, it is considered infeasible because it would result in unnecessary economic burden on the applicant. It also could result in the transfer of the parcel to a party that would fully develop the property without maintaining any habitat on site. For these reasons, the No-Action Alternative has been rejected.

Reduced Development Alternative

Under the Reduced Development Alternative, the access roadway and vineyard would remain the same as in the proposed action, but the proposed structures would be reduced in size, thereby reducing the total amount of grassland developed. The Service would issue a permit, and the applicant would implement the proposed mitigation measures. While this Reduced Development Alternative would reduce the loss of grassland habitat, it would still potentially result in take of the California red-legged frog, and it would not reduce the project footprint to a biologically meaningful extent. In addition, this alternative would require the employment of a vineyard management company, resulting in unnecessary economic burden to the applicant and in increased traffic in the permit area. For these reasons, the Reduced Development Alternative has been rejected.

Proposed Action

Under the Proposed Action Alternative, we would issue an incidental take permit for the applicant's proposed project, which includes the activities described above. The Proposed Action Alternative would result in the permanent loss of 0.25-acres of upland habitat for California red-legged frog that would be converted to buildings or roads. Approximately 0.15-acres of upland habitat would be temporarily disturbed but would then be reseeded to grassland. An additional 4.5 acres of grassland would be converted to vineyard, thereby decreasing the quality of upland habitat for California red-legged frog in the permit area. To mitigate for these effects, the applicant proposes to purchase 0.75-acres of credits for California red-legged frog at a Service-approved conservation bank. In addition, the on-site pond and surrounding grassland in the northwestern corner of the property will not be developed and will be managed according to a Service-approved plan that would improve habitat conditions for California red-legged frog.

National Environmental Policy Act

As described in our EAS, we have made the preliminary determination that approval of the proposed HCP and issuance of the permit would qualify as a categorical exclusion under NEPA (42 U.S.C. 4321-4347 et seq.), as provided by NEPA implementing regulations in the Code of Federal Regulations (40 CFR 1500.5(k), 1507.3(b)(2), 1508.4), by Department of Interior regulations (43 CFR 46.205, 46.210, 46.215), and by the Department of the Interior Manual (516 DM 3 and 516 DM 8). Our EAS found that the proposed HCP qualifies as a “low-effect” habitat conservation plan, as defined by our “Habitat Conservation Planning and Incidental Take Permitting Process Handbook” (November 1996).

Determination of whether a habitat conservation plan qualifies as low-effect is based on the following three criteria: (1) Implementation of the proposed HCP would result in minor or negligible effects on federally listed, proposed, or candidate species and their habitats; (2) implementation of the proposed HCP would result in minor or negligible effects on other environmental values or resources; and (3) impacts of the HCP, considered together with the impacts of other past, present, and reasonably foreseeable projects, would not result, over time, in cumulative effects to environmental values or resources that would be considered significant. Based upon the preliminary determinations in the EAS, we do not intend to prepare further NEPA documentation. We will consider public comments when making the final determination on whether to prepare an additional NEPA document on the proposed action.

Public Comments

We request data, comments, new information, or suggestions from the public, other concerned governmental agencies, the scientific community, Tribes, industry, or any other interested party on this notice. We particularly seek comments on the following:

(1) Biological information concerning the species;

(2) Relevant data concerning the species;

(3) Additional information concerning the range, distribution, population size, and population trends of the species;

(4) Current or planned activities in the subject area and their possible impacts on the species; and

(5) Identification of any other environmental issues that should be considered with regard to the proposed transmission line and permit action.

You may submit your comments and materials by one of the methods listed above in ADDRESSES. Comments and materials we receive, as well as supporting documentation we used in preparing the EAS, will be available for public inspection by appointment, during normal business hours, at our office (see FOR FURTHER INFORMATION CONTACT).

Public Availability of Comments

Before including your address, phone number, or other personal identifying information in your comment, you should be aware that your entire comment—including your personal identifying information—might be made publicly available at any time. While you can ask us in your comment to withhold your personal identifying information from public review, we cannot guarantee that we will be able to do so.

Next Steps

We will evaluate the permit application, including the HCP, and comments we receive to determine whether the application meets the requirements of section 10(a) of the Act. If the requirements are met, we will issue a permit to the applicant for the incidental take of the California red-legged frog from the implementation of the covered activities described in the Low-Effect Habitat Conservation Plan for California Red-legged Frog, Level 1 New Vineyard, 24129 Turkey Road, Sonoma County, California. We will make the final permit decision no sooner than 30 days after publication of this notice in the Federal Register.

Authority

We publish this notice under the National Environmental Policy Act of 1969, as amended (42 U.S.C. 4321-4347 et seq.; NEPA), and its implementing regulations in the Code of Federal Regulations (CFR) at 40 CFR 1500-1508, as well as in compliance with section 10(c) of the Endangered Species Act (16 U.S.C. 1531-1544 et seq.; Act).

Dated: March 31, 2014.
Jennifer M. Norris,
Field Supervisor, Sacramento Fish and Wildlife Office, Sacramento, California.

[FR Doc. 2014-07521 Filed 4-3-14; 8:45 am]

BILLING CODE 4310-55-P